DEPARTMENT OF THE INTERIOR

Bureau of Indian Affairs

25 CFR Chapter I, Subchapter E

Negotiated Rulemaking, No Child Left Behind Act of 2001, Public Law 107-110

AGENCY: Bureau of Indian Affairs, Interior.

ACTION: Extension of time for submitting nominations for tribal representatives for the No Child Left Behind Negotiated Rulemaking Committee.

SUMMARY: The Secretary of the Interior is extending the deadline from January 9, 2003, to January 24, 2003, for nominations for tribal representatives for the No Child Left Behind Negotiated Rulemaking Committee. This committee will work with the Department of the Interior to develop regulations to implement the No Child Left Behind Act.

DATES: Nominations for tribal committee members and comments on the establishment of this committee must be received by mail or fax by January 24, 2003.

ADDRESSES: Send nominations and comments to: No Child Left Behind Negotiated Rulemaking Committee Nominations, c/o Starr Penland, Office of Indian Education Programs, Bureau of Indian Affairs, U.S. Department of the Interior, MS 3512-MIB, 1849 C Street NW., Washington, DC 20240, or FAX to Starr Penland at 202-273-0030. Nominations and comments received will be available for inspection at the address listed above from 7:45 a.m. to 4 p.m., Monday through Friday, except Federal holidays.

FOR FURTHER INFORMATION CONTACT: Catherine Freels, Designated Federal Official, No Child Left Behind Negotiated Rulemaking, U.S. Department of the Interior, Office of the Regional Solicitor, Southwest Region, 505 Marquette Avenue NW., Albuquerque, New Mexico, 87102, FAX 505-248-5623.

SUPPLEMENTARY INFORMATION: On December 10, 2002, we published a notice requesting nominations for a negotiated rulemaking committee that will develop regulations to implement the No Child Left Behind Act. (The notice appeared at 67 FR 75828 and is available on our Web site at http://www.OIEP.bia.edu under “Negotiated Rulemaking.”) In this notice we invited representatives of tribal schools (both contract and grant) and tribally operated schools to nominate representatives and alternates to serve on the committee. In order to have an adequate pool of nominations, we are extending the deadline for tribes and tribal organizations to submit nominations.

Because committee membership should reflect the diversity of tribal interests, tribal schools and tribally operated schools should nominate representatives who will:

1. Represent the interests of students, parents, teachers, school board members, and school administrators they are nominated to represent;

2. Reflect the spectrum of grant/tribally-controlled schools, off-reservation boarding schools, various size schools, and alternative schools in the geographic regions;

3. Communicate with the constituencies they represent; and

4. Participate fully in the committee's activities.

We will consider nominations for tribal committee representatives only if they are nominated through the process identified in this notice and in the notice that we published on December 10, 2002. We will not consider any nominations that we receive in any other manner. We will also not consider nominations for Federal representatives. Only the Secretary may nominate Federal employees to the committee.

Nominations must include the following information about each nominee for tribal committee member:

(1) The nominee's name, business address, telephone and fax number (and e-mail address, if applicable);

(2) The tribal interest(s) to be represented by the nominee (teacher, parent, school administrators, or school board member) and whether the nominee will represent the interest of grant/tribally-controlled school, off-reservation boarding school, small or large school or alternative school in a specific geographic region or other interest related to this rulemaking, as the tribe may designate; and

(3) The nominee's qualifications and experience in Indian education (including being a parent of a student attending a Bureau-funded school) to adequately represent the interest(s) identified above.

To be considered, we must receive nominations by the close of business on January 24, 2003, at the location indicated in the ADDRESSES section.

Dated: January 10, 2003.
Aurene M. Martin,
Assistant Secretary—Indian Affairs.

[FR Doc. 03-1061 Filed 1-16-03; 8:45 am]

BILLING CODE 4310-6W-P